INTERNATIONAL TRADE COMMISSION

[Investigation Nos. 701-TA-715 and 731-TA-1682 (Final)]

Ferrosilicon From Russia

Determinations

On the basis of the record ¹ developed in the subject investigations, the United States International Trade Commission (“Commission”) determines, pursuant to the Tariff Act of 1930 (“the Act”), that an industry in the United States is materially injured by reason of imports of ferrosilicon from Russia, provided for in subheadings 7202.21 and 7202.29 of the Harmonized Tariff Schedule of the United States, that have been found by the U.S. Department of Commerce (“Commerce”) to be sold in the United States at less than fair value (“LTFV”) and to be subsidized by the government of Russia.2 3

¹ The record is defined in § 207.2(f) of the Commission's Rules of Practice and Procedure (19 CFR 207.2(f)).

² 89 FR 76450 and 76454 (September 18, 2024).

³ The Commission also finds that imports subject to Commerce's affirmative critical circumstances determination are not likely to undermine seriously the remedial effect of the countervailing and antidumping duty orders on ferrosilicon from Russia.

Background

The Commission instituted these investigations effective March 28, 2024, following receipt of petitions filed with the Commission and Commerce by CC Metals and Alloy, LLC, Calvert City, Kentucky, and Ferroglobe USA, Inc., Beverly, Ohio.⁴ The final phase of the investigations was scheduled by the Commission following notification of preliminary determinations by Commerce that imports of ferrosilicon from Russia were subsidized within the meaning of section 703(b) of the Act (19 U.S.C. 1671b(b)) and sold at LTFV within the meaning of 733(b) of the Act (19 U.S.C. 1673b(b)). Notice of the scheduling of the final phase of the Commission's investigations and of a public hearing to be held in connection therewith was given by posting copies of the notice in the Office of the Secretary, U.S. International Trade Commission, Washington, DC, and by publishing the notice in the Federal Register on July 9, 2024 (89 FR 56407).⁵ The Commission conducted its hearing on September 12, 2024. All persons who requested the opportunity were permitted to participate.

⁴ The petition alleged that an industry in the United States is materially injured and threatened with material injury by reason of subsidized and LTFV imports of ferrosilicon from Brazil, Kazakhstan, Malaysia, and Russia. The investigations regarding ferrosilicon from Brazil, Kazakhstan, and Malaysia are ongoing.

⁵ The Commission subsequently revised its schedule pursuant to Commerce's tolling of deadlines (89 FR 65671, August 12, 2024).

The Commission made these determinations pursuant to §§ 705(b) and 735(b) of the Act (19 U.S.C. 1671d(b) and 19 U.S.C. 1673d(b)). It completed and filed its determinations in these investigations on November 4, 2024. The views of the Commission are contained in USITC Publication 5556 (November 2024), entitled Ferrosilicon from Russia: Investigation Nos. 701-TA-715 and 731-TA-1682 (Final).

By order of the Commission.
Issued: November 5, 2024.
Lisa Barton,
Secretary to the Commission.

[FR Doc. 2024-25976 Filed 11-7-24; 8:45 am]

BILLING CODE 7020-02-P